SOCIAL SECURITY ADMINISTRATION

20 CFR Part 404

[Docket No. SSA-2014-0052]

RIN 0960-AH71

Ensuring Program Uniformity at the Hearing and Appeals Council Levels of the Administrative Review Process

AGENCY: Social Security Administration.

ACTION: Notice of proposed rulemaking (NPRM); reopening of the comment period.

SUMMARY: On July 12, 2016, we published in the Federal Register a notice of proposed rulemaking (NPRM) for Ensuring Program Uniformity at the Hearing and Appeals Council Levels of the Administrative Review Process. We provided a 30-day comment period ending on August 11, 2016. We are extending the comment period for 15 days.

DATES: The comment period for the NPRM published on July 12, 2016 (81 FR 45079), is extended by 15 days and thus will end on August 26, 2016.

ADDRESSES: You may submit comments by any one of three methods—Internet, fax, or mail. Do not submit the same comments multiple times or by more than one method. Regardless of which method you choose, please state that your comments refer to Docket No. SSA-2014-0052 so that we may associate your comments with the correct rule.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the “Search” function to find docket number SSA-2014-0052. The system will issue a tracking number to confirm your submission. You will not be able to view your comment immediately because we must post each comment manually. It may take up to a week for your comment to be viewable.

2. Fax: Fax comments to (410) 966-2830.

3. Mail: Mail your comments to the Office of Regulations and Reports Clearance, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Maren Weight, Office of Appellate Operations, Social Security Administration, 5107 Leesburg Pike, Falls Church, VA 22041, (703) 605-7100. For information on eligibility or filing for benefits, call our national toll-free number, 1-800-772-1213 or TTY 1-800-325-0778, or visit our Internet site, Social Security Online, at http://www.socialsecurity.gov.

SUPPLEMENTARY INFORMATION: This document extends to August 26, 2016, the comment period for the NPRM that we published on July 12, 2016. We are extending the comment period in response to comments we received requesting additional time to review and comment on the proposed rules. If you have already provided comments on the proposed rules, we will consider your comments and you do not need to resubmit them.

Carolyn W. Colvin,
Acting Commissioner of Social Security.

[FR Doc. 2016-18367 Filed 8-3-16; 8:45 am]

BILLING CODE 4191-02-P